DEPARTMENT OF THE INTERIOR

Bureau of Indian Affairs

[222A2100DD/AAKC001030/A0A501010.999900253G]

Draft Programmatic Environmental Impact Statement for the Navajo Nation Integrated Weed Management Plan, Arizona, New Mexico, and Utah

AGENCY: Bureau of Indian Affairs, Interior.

ACTION: Notice of availability.

SUMMARY: This notice advises the public that the Bureau of Indian Affairs (BIA) as the lead Federal agency, with the Navajo Nation as a cooperating agency, intends to file a Draft Programmatic Environmental Impact Statement (DPEIS) with the Environmental Protection Agency for the proposed Navajo Nation Integrated Weed Management Plan (NNIWMP). This notice also announces that the DPEIS is now available for public review and comment and that a public hearing will be held to receive comments on the DPEIS.

DATES: To be fully considered, written comments on the DEIS must arrive no later than 45 days after EPA publishes its Notice of Availability in the Federal Register. The dates and times of the virtual public hearings will be published in the Navajo Times, the Gallup Sun, Farmington Daily Times, the Gallup Independent, and the Navajo-Hopi Observer.

ADDRESSES: Written comments should be sent to Leonard Notah, NEPA Coordinator, Navajo Regional Office, Branch of Environmental Quality Compliance and Review, P.O. Box 1060, Gallup City, New Mexico 87301 or by email to leonard.notah@bia.gov. The locations of the virtual public hearings will be published in the Navajo Times, the Gallup Sun, Farmington Daily Times, the Gallup Independent, and the Navajo-Hopi Observer. The NNIWMP DPEIS is available for review at: https://www.bia.gov/regional-offices/navajo/navajo-nation-integrated-weed-management-plan. Please see the SUPPLEMENTARY INFORMATION section of this notice for physical locations where the DPEIS is available and for information on how to register to participate in the virtual public hearings.

FOR FURTHER INFORMATION CONTACT: Leonard Notah, NEPA Coordinator, Bureau of Indian Affairs Navajo Regional Office, Branch of Environmental Quality Compliance and Review, P.O. Box 1060, Gallup City, New Mexico 87301, telephone (505) 863-8256, email leonard.notah@bia.gov.

SUPPLEMENTARY INFORMATION: The proposed Federal action is implementation of the NNIWMP. The BIA Navajo Regional Office prepared the NNIWMP to determine the most effective and appropriate methods to treat noxious and invasive weeds. The DPEIS discloses the direct, indirect, and cumulative environmental impacts of weed treatment techniques that would result from the Proposed Action and alternatives. The weed treatment techniques provide the BIA with the tools to implement an integrated approach to treating weeds on the Navajo Nation (Navajo Tribal Trust Lands, Navajo Indian Allotments, and Navajo Partitioned Lands).

The purpose of the NNIWMP is to prevent, eradicate, contain, and/or monitor 45 noxious weed species on the Navajo Nation including the Navajo Tribal trust lands, Navajo Indian allotments, and Navajo partitioned lands. The NNIWMP focuses on managing non-native invasive plant species using mechanical, manual, cultural, biological, and chemical weed treatment methods.

The following objectives were developed for the NNIWMP:

• Develop the best control techniques described for the target weed species in a planned, coordinated, and economically feasible program to limit the impact and spread of noxious and invasive weeds;

• Incorporate project successes and lessons learned from completed weed projects on the Navajo Nation when developing weed removal project proposals through adaptive management;

• Identify and prevent the expansion of existing infestations of target weed species, and quickly prevent the spread of new high priority weed species in the project area;

• Coordinate weed removal efforts with adjacent landowners, land managers, and/or Federal agencies to prevent the further spread of weed populations (e.g. State roads and Bureau of Land Management);

• Provide and promote economic opportunities to the Navajo people by improving rangeland productivity and potentially providing economic opportunities to remove noxious plant species; and

• Develop a public education program focusing on weed identification, prevention, and removal techniques for local communities and non-profit organizations.

The NNWIMP encompasses a 10-year period but will incorporate a plan review after five years. Repeated treatments will be necessary for most species since seeds can be viable in soil for 10 or more years. Therefore, re-occurring weed treatments will be implemented until the desired management goal is reached.

Cooperating agencies for this NEPA process include: The Navajo Nation, Arizona Department of Transportation (ADOT), Utah Department of Transportation (UDOT), Navajo Nation Soil and Water Conservation Districts (SWCD), San Juan Soil and Water Conservation District, U.S. Department of Agriculture (USDA) Natural Resource Conservation Service (NRCS), the Bureau of Land Management, USDA Animal and Plant Health Inspection Service (APHIS) and the National Park Service. The BIA will seek to coordinate weed removal projects on adjacent lands managed by the above-mentioned agencies and neighboring areas managed by the Coconino National Forest and the Hopi Tribe.

BIA will use the DPEIS to make decisions on the implementation of the NNIWMP.

Directions for Submitting Comments: In accordance with the regulations for implementing NEPA, the BIA solicits public comment on the DPEIS. Comments on the DPEIS may be submitted in writing or by email to the address listed above in the ADDRESSES section of this notice. At the top of your letter or in the subject line of your email message, indicate that the comments are “Navajo Nation IWMP Draft EIS Comments.”

Public Hearings: To help protect the public and limit the spread of the COVID-19 virus, the BIA Navajo Regional Office will hold five virtual public hearings to facilitate public review and comment on the DPEIS. Members of the public can register for virtual public hearings at: https://www.bia.gov/regional-offices/navajo/navajo-nation-integrated-weed-management-plan.

After registering, participants will receive a confirmation email with instruction for joining the meeting.

Locations Where the DPEIS is Available for Review: The NNIWMP DPEIS is available for review at: https://www.bia.gov/regional-offices/navajo/navajo-nation-integrated-weed-management-plan. Paper and CD copies of the DPEIS may also be available to the public at the following BIA Offices (Natural Resources):

• Navajo Region, 301 West Hill Street, Room 214, Gallup, New Mexico 87301: Phone (505) 863-8314.

• Western Navajo Agency, East Highway 160 & Warrior Drive, #407 Federal Building, Tuba City, Arizona, 86045; Phone: (928) 283-2252.

• Chinle (Central) Navajo Agency, U.S. Highway 191 & Navajo Route 7, Federal Building #136C, Room C-12, Chinle, Arizona 86503; Phone: (928) 674-5100.

• Eastern Navajo Agency, Building #222, Chaco Boulevard, Crownpoint, New Mexico, 87313; Phone: (505) 786-6100.

• Fort Defiance Agency, Kit Carson Drive, Building #40, Fort Defiance, Arizona, 86504; Phone: (928) 729-7223.

• Shiprock (Northern) Navajo Agency, Nataani Nez Complex, 2nd Floor, Highway 491 South, Shiprock, New Mexico, 87420; Phone: (505) 368-3308.

• Navajo Partitioned Lands, ¼ mile South of Navajo Route 4 & Main, Pinon, Arizona, 86510; Phone: (928) 725-3343.

Public Comment Availability: All submissions from organizations or businesses, and from individuals identifying themselves as representatives or officials of organizations or businesses, will be available for public review to the extent consistent with applicable law. Before including your address, phone number, email address, or other personal identifying information in your comment, be aware your entire comment—including your personal identifying information—may be publicly available at any time. You can request the BIA to withhold your personal identifying information from public review, but we cannot guarantee that we will be able to do so. Comments submitted anonymously will be accepted and considered; however, those who submit anonymous comments may not have standing to appeal the subsequent decision.

To be placed on the mailing list for future information, please see FOR FURTHER INFORMATION CONTACT.

Authority: This notice is published in accordance with section 1503.1 of the Council on Environmental Quality regulations (40 CFR 1500 et seq.) and the Department of the Interior Regulations (43 CFR part 46) implementing the procedural requirements of the National Environmental Policy Act (42 U.S.C. 4321 et seq), and in accordance with the exercise of authority delegated to the Principal Deputy Assistant Secretary—Indian Affairs by part 209 of the Department Manual.

Bryan Newland,
Assistant Secretary—Indian Affairs.

[FR Doc. 2021-23591 Filed 10-28-21; 8:45 am]

BILLING CODE 4337-15-P